DEPARTMENT OF ENERGY

Federal Energy Regulatory Commission

Combined Notice of Filings #1

Take notice that the Commission received the following electric corporate filings:

Docket Numbers: EC25-28-000.

Applicants: Plus Power, Cranberry Point Energy Storage, LLC, Cross Town Energy Storage, LLC, Energy Storage Resources, LLC, Sierra Estrella Energy Storage LLC, Superstition Energy Storage LLC.

Description: Joint Application for Authorization Under Section 203 of the Federal Power Act of Plus Power, LLC, et al.

Filed Date: 12/10/24.

Accession Number: 20241210-5208.

Comment Date: 5 p.m. ET 12/31/24.

Docket Numbers: EC25-29-000.

Applicants: Washington Wind LLC.

Description: Application for Authorization Under Section 203 of the Federal Power Act of Washington Wind LLC.

Filed Date: 12/10/24.

Accession Number: 20241210-5213.

Comment Date: 5 p.m. ET 12/31/24.

Take notice that the Commission received the following exempt wholesale generator filings:

Docket Numbers: EG25-59-000.

Applicants: SMT Mission II LLC.

Description: SMT Mission II LLC submits Notice of Self-Certification of Exempt Wholesale Generator Status.

Filed Date: 12/11/24.

Accession Number: 20241211-5028.

Comment Date: 5 p.m. ET 1/1/25.

Take notice that the Commission received the following electric rate filings:

Docket Numbers: ER19-1411-005; ER12-1436-021; ER15-1447-009; ER18-280-010; ER18-533-008; ER18-534-008; ER18-535-008; ER18-536-008; ER18-537-008; ER18-538-009; ER20-2048-003; ER21-573-006; ER21-574-006; ER21-575-006; ER21-2317-002; ER22-48-006.

Applicants: Gridflex Generation, LLC, Richland-Stryker Generation LLC, Lanyard Power Marketing, LLC, Dickerson Power, LLC, Chalk Point Power, LLC, Ellwood Power, LLC, Sidney, LLC, Monument Generating Station, LLC,O.H. Hutchings CT, LLC, Yankee Street, LLC, Montpelier Generating Station, LLC, Tait Electric Generating Station, LLC, Lee County Generating Station, LLC, Mid-Georgia Cogen L.P., Eagle Point Power Generation LLC, GenOn Bowline, LLC.

Description: Notice of Non-Material Change in Status of Bowline, LLC, et al.

Filed Date: 12/10/24.

Accession Number: 20241210-5212.

Comment Date: 5 p.m. ET 12/31/24.

Docket Numbers: ER20-2186-003; EL20-62-001.

Applicants: Fern Solar LLC, Fern Solar LLC.

Description: Schedule 1 to Fern Solar LLC's compliance filing to the 10/17/2024 Commission's order, Opinion No. 591, Order on Initial Decision.

Filed Date: 12/9/24.

Accession Number: 20241209-5276.

Comment Date: 5 p.m. ET 12/30/24.

Docket Numbers: ER25-679-000.

Applicants: AlbertaEx, L.P.

Description: § 205(d) Rate Filing: Filing of Contribution in Aid and Construction Agreement_ITCMW RS 236 to be effective 2/8/2025.

Filed Date: 12/9/24.

Accession Number: 20241209-5159.

Comment Date: 5 p.m. ET 12/30/24.

Docket Numbers: ER25-688-000.

Applicants: The Potomac Edison Company.

Description: § 205(d) Rate Filing: Potomac Edison's Request for Order Authorizing Abandoned Plant Incentive to be effective 2/10/2025.

Filed Date: 12/11/24.

Accession Number: 20241211-5051.

Comment Date: 5 p.m. ET 1/1/25.

Docket Numbers: ER25-689-000.

Applicants: Cooperative Energy.

Description: § 205(d) Rate Filing: 2024-12-11_SA 4411 Cooperative Energy-Bluestown Solar E&P (J2127) to be effective 12/12/2024.

Filed Date: 12/11/24.

Accession Number: 20241211-5054.

Comment Date: 5 p.m. ET 1/1/25.

Docket Numbers: ER25-690-000.

Applicants: Arizona Public Service Company.

Description: § 205(d) Rate Filing: Service Agreement No. 375—Papago LGIA Amendment No. 1 to be effective 2/10/2025.

Filed Date: 12/11/24.

Accession Number: 20241211-5063.

Comment Date: 5 p.m. ET 1/1/25.

Docket Numbers: ER25-691-000.

Applicants: Tri-State Generation and Transmission Association, Inc.

Description: § 205(d) Rate Filing: Initial Filing of Service Agreement No. 619 to be effective 11/12/2025.

Filed Date: 12/11/24.

Accession Number: 20241211-5095.

Comment Date: 5 p.m. ET 1/1/25.

Docket Numbers: ER25-692-000.

Applicants: PacifiCorp.

Description: § 205(d) Rate Filing: UAMPS TSOA Rev 9 (R.S. No. 297) to be effective 2/10/2025.

Filed Date: 12/11/24.

Accession Number: 20241211-5096.

Comment Date: 5 p.m. ET 1/1/25.

Docket Numbers: ER25-693-000.

Applicants: PacifiCorp.

Description: § 205(d) Rate Filing: UMPA TSOA Rev 7 (R.S. No. 637) to be effective 2/10/2025.

Filed Date: 12/11/24.

Accession Number: 20241211-5097.

Comment Date: 5 p.m. ET 1/1/25.

Docket Numbers: ER25-694-000.

Applicants: San Diego Gas & Electric.

Description: § 205(d) Rate Filing: 2025 RS Filing to be effective 1/1/2025.

Filed Date: 12/11/24.

Accession Number: 20241211-5157.

Comment Date: 5 p.m. ET 1/1/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 11, 2024.
Carlos D. Clay,
Acting Deputy Secretary.

[FR Doc. 2024-29665 Filed 12-16-24; 8:45 am]

BILLING CODE 6717-01-P